DEPARTMENT OF ENERGY

Federal Energy Regulatory Commission

[Docket No. IC18-13-000]

Commission Information Collection Activities (FERC-537); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-537 (Gas Pipeline Certificates: Construction, Acquisition, and Abandonment).

DATES: Comments on the collection of information are due July 20, 2018.

ADDRESSES: You may submit comments (identified by Docket No. IC18-13-000) by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-537 (Gas Pipeline Certificates: Construction, Acquisition, and Abandonment.

OMB Control No.: 1902-0060.

Type of Request: Three-year extension of the FERC-537 information collection requirements with no changes to the current reporting requirements.

Abstract: The FERC-537 information collection requires natural gas companies to file the necessary information with FERC in order for the Commission to determine if the requested certificate should be authorized. Certain self-implementing construction and abandonment programs do not require the filing of applications. However, those types of programs do require the filing of annual reports, so many less significant actions can be reported in a single filing/response and less detail would be required.

The data required to be submitted in a normal certificate filing consists of identification of the company and responsible officials, factors considered in the location of the facilities and the impact on the area for environmental considerations. Also to be submitted are the following, as applicable to the specific request:

• Flow diagrams showing the design capacity for engineering design verification and safety determination;

• Cost of proposed facilities, plans for financing, and estimated revenues and expenses related to the proposed facility for accounting and financial evaluation.

• Existing and proposed storage capacity and pressures and reservoir engineering studies for requests to increase storage capacity;

• An affidavit showing the consent of existing customers for abandonment of service requests.

Additionally, requests for an increase of pipeline capacity must include a statement that demonstrates compliance with the Commission's Certificate Policy Statement by making a showing that the cost of the expansion will not be subsidized by existing customers and that there will not be adverse economic impacts to existing customers, competing pipelines or their customers, nor to landowners and to surrounding communities.

Type of Respondents: Natural gas companies.

Estimate of Annual Burden: ¹ The Commission estimates the annual public reporting burden for the information collection as:

¹ “Burden” is defined as the total time, effort, or financial resources expended by persons to generate, maintain, retain, or disclose or provide information to or for a Federal agency. For further explanation of what is included in the information collection burden, reference 5 Code of Federal Regulations 1320.3.

FERC-537
[Gas pipeline certificates: Construction, acquisition, and abandonment]
| Number of respondents | Annual number of responses per respondent | Total number of responses | Average burden and cost per response ² | Total annual burden hours and total annual cost | Cost per respondent
| (1) | (2) | (1) * (2) = (3) | (4) | (3) * (4) = (5) | (5) ÷ (1) ³
18 CFR 157.5-.11 (Interstate Certificate and Abandonment Applications) | 52 | 1.19 | 62 | 500 hrs.; $39,500 | 31,000; $2,449,000 | $47,096
18 CFR 157.53 (Pipeline Purging/Testing Exemptions) | 1 | 1 | 1 | 50 hrs.; $3,950 | 50 hrs.; $3,950 | 3,950
18 CFR 157.201-.209; 157.211; 157.214-.218 (Blanket Certificates Prior to Notice Filings) | 21 | 1.86 | 39 | 200 hrs; $15,800 | 7,800 hrs.; $616,200 | 29,343
18 CFR 157.201-.209; 157.211; 157.214-.218 (Blanket Certificates—Annual Reports) | 129 | ⁴ 1.05 | 135 | 50 hrs.; $3,950 | 6,750 hrs.; $533,250 | 4,134
18 CFR 284.11 (NGPA Section 311 Construction—Annual Reports) | 83 | ⁵ 1.01 | 84 | 50 hrs.; $3,950 | 4,200 hrs.; $331,800 | 3,998
18 CFR 284.8 | 178 | 0 | 0 | N/A | N/A | N/A
18 CFR 284.13(e) and 284.126(a) (Interstate and Intrastate Bypass Notice) | 2 | 1 | 2 | 30 hrs.; $2,370 | 60 hrs.; $4,740 | 2,370
18 CFR 284.221 (Blanket Certificates) ⁶ | 5 | ⁷ 1.4 | 7 | 100 hrs.; $7,900 | 700 hrs.; $55,300 | 11,060
18 CFR 224 (Hinshaw Blanket Certificates) | 2 | 1 | 2 | 75 hrs.; $5,925 | 150 hrs.; $11,850 | 5,925
18 CFR 157.5-.11; 157.13-.20 (Non-facility Certificate or Abandonment Applications) | 3 | 1 | 3 | 75 hrs.; $5,925 | 225 hrs.; $17,775 | 5,925
Total |  |  | ⁸ 335 |  | 50,935 hrs.; $4,023,865 |

Comments: Comments are invited on: (1) Kwhether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The estimates for cost per response are derived using the following formula: Average Burden Hours per Response * $79.00/hour = Average cost/response. The figure is the 2018 FERC average hourly cost (for wages and benefits) of $79.00 (and an average annual salary of $164,820/year). Commission staff is using the FERC average salary because we consider any reporting requirements completed in response to the FERC-537 to be compensated at rates similar to the work of FERC employees.

³ Each of the figures in this column are rounded to the nearest dollar.

⁴ This figure was derived from 135 responses ÷ 129 respondents = 1.046 or ~1.05 responses/respondent.

⁵ This figure was derived from 84 responses ÷ 83 respondents = 1.012 or ~1.01 responses/respondent.

⁶ One-time filings, new tariff and rate design proposal, or request for exemptions.

⁷ This figure was derived from 7 responses ÷ 5 respondents = 1.4 responses/respondent.

⁸ The 335 responses are derived from 214 individual respondents.

Dated: May 14, 2018.
Kimberly D. Bose,
Secretary.

[FR Doc. 2018-10753 Filed 5-18-18; 8:45 am]

BILLING CODE 6717-01-P